DEPARTMENT OF COMMERCE

International Trade Administration

[A-351-843]

Certain Cold-Rolled Steel Flat Products From Brazil: Rescission of Antidumping Duty Administrative Review; 2018-2019

AGENCY: Enforcement and Compliance, International Trade Administration, Department of Commerce.

SUMMARY: The Department of Commerce (Commerce) is rescinding the administrative review of the antidumping duty (AD) order on certain cold-rolled steel flat products from Brazil for the period of review (POR) September 1, 2018 through August 31, 2019, based on the timely withdrawal of the request for review.

DATES: Applicable February 5, 2020.

FOR FURTHER INFORMATION CONTACT: William Langley, AD/CVD Operations, Office I, Enforcement and Compliance, International Trade Administration, U.S. Department of Commerce, 1401 Constitution Avenue NW, Washington, DC 20230; telephone: (202) 482-3861.

SUPPLEMENTARY INFORMATION:

Background

On September 3, 2019, Commerce published a notice of opportunity to request an administrative review of the antidumping duty order on certain cold-rolled steel flat products (cold-rolled steel) from Brazil for the POR of September 1, 2018 through August 31, 2019.¹ United States Steel Corporation (U.S. Steel) timely filed requests for administrative review of Aperam Inox America do Sul S.A. (Aperam Inox); Armco do Brasil S.A. (Armco); Arvedi Metalfer do Brasil (Arvedi Metalfer); Companhia Siderurgica Nacional (CSN); NVent do Brasil Eletrometalurgica (NVent); Signode Brasileira Ltda. (Signode Brasileira); and Usinas Siderurgicas de Minas Gerais (Usiminas), in accordance with section 751(a) of the Tariff Act of 1930, as amended (the Act), and 19 CFR 351.213(b).²

¹ See Antidumping or Countervailing Duty Order, Finding, or Suspended Investigation; Opportunity to Request Administrative Review, 84 FR 45949 (September 3, 2019).

² See U.S. Steel's letter, “Cold-Rolled Steel Flat Products from Brazil: Request for Administrative Review of Antidumping Duty Order,” dated September 30, 2019.

On November 12, 2019, pursuant to these requests and in accordance with 19 CFR 351.221(c)(1)(i), Commerce published a notice initiating an administrative review of the antidumping order on cold-rolled steel from Brazil with respect to Aperam Inox, Armco, Arvedi Metalfer, CSN, NVent, Signode Brasileira, and Usiminas.³ On January 8, 2020, U.S. Steel withdrew its request for an administrative review with respect to all of the companies for which it had requested a review.⁴

³ See Initiation of Antidumping and Countervailing Duty Administrative Reviews, 84 FR 61011 (November 12, 2019).

⁴ See U.S. Steel's letter, “Cold-Rolled Steel Flat Products from Brazil: Withdrawal of Request for Administrative Review of Antidumping Duty Order,” dated January 8, 2020.

Rescission of Review

Pursuant to 19 CFR 351.213(d)(1), Commerce will rescind an administrative review, in whole or in part, if the party or parties that requested a review withdraws the request within 90 days of the publication date of the notice of initiation of the requested review. U.S. Steel withdrew its request within 90 days of the publication date of the notice of initiation. No other parties requested an administrative review of the order. Therefore, in accordance with 19 CFR 351.213(d)(1), we are rescinding this review in its entirety.

Assessment

Commerce will instruct U.S. Customs and Border Protection (CBP) to assess antidumping duties on all appropriate entries of cold-rolled steel from Brazil. Antidumping duties shall be assessed at rates equal to the cash deposit of estimated antidumping duties required at the time of entry, or withdrawal from warehouse, for consumption in accordance with 19 CFR 351.212(c)(1)(i). Commerce intends to issue appropriate assessment instructions to CBP 15 days after the date of publication of this notice in the Federal Register.

Notification to Importers

This notice serves as a reminder to importers of their responsibility under 19 CFR 351.42(f)(2) to file a certificate regarding the reimbursement of AD duties prior to liquidation of the relevant entries during this review period. Failure to comply with this requirement could result in Commerce's presumption that reimbursement of AD duties occurred and the subsequent assessment of doubled AD duties.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: January 30, 2020.
James Maeder,
Deputy Assistant Secretary for Antidumping and Countervailing Duty Operations.

[FR Doc. 2020-02260 Filed 2-4-20; 8:45 am]

BILLING CODE 3510-DS-P